DEPARTMENT OF COMMERCE

National Oceanic and Atmospheric Administration

50 CFR Part 660

[I.D. 121800E]

Pelagics Fisheries of the Western Pacific Region; Public Meetings

AGENCY: National Marine Fisheries Service (NMFS), National Oceanic and Atmospheric Administration (NOAA), Commerce.

ACTION: Notice of public meetings.

SUMMARY: On October 6, 1999, and on October 20, 1999, NMFS announced its intent to prepare an Environmental Impact Statement (EIS) on Federal management of the fishery for pelagic species in the U.S. exclusive economic zone (EEZ) waters of the western Pacific Region. The Draft Environmental Impact Statement (DEIS) has been prepared and is available to the public. The scope of the DEIS includes all activities related to the conduct of the fishery authorized by and managed under the Fishery Management Plan for the Pelagics Fisheries of the Western Pacific Region (FMP) and all amendments thereto. NMFS is holding public meetings to solicit public input on the range of actions, alternatives, and impacts addressed in the DEIS. In addition to holding the public meetings, NMFS is also accepting written comments on the DEIS.

DATES: Written comments will be accepted through January 29, 2001. See SUPPLEMENTARY INFORMATION for meeting times.

ADDRESSES: Written comments and requests to be included on a mailing list of persons interested in the DEIS/EIS should be sent to Marilyn Luipold, Pacific Islands Area Office, NMFS, 1601 Kapiolani Blvd., Suite 1110, Honolulu, HI 96814-4700. Comments also may be faxed to 808-973-2941. Comments will not be accepted if submitted via e-mail or the Internet. Public meetings will be held in Hawaii, Guam, American Samoa (AS), and the Commonwealth of the Northern Mariana Islands (CNMI). For specific meeting locations, see SUPPLEMENTARY INFORMATION.

FOR FURTHER INFORMATION CONTACT: Marilyn Luipold (see ADDRESSES).

SUPPLEMENTARY INFORMATION: On October 6, 1999 (64 FR 54272), and on October 20, 1999 (64 FR 56479), NMFS announced its intent to prepare an EIS on Federal management of the fishery for pelagic species in the U.S. EEZ waters of the western Pacific Region. NMFS has prepared the DEIS and made it available to the public. The Notice of Availability of the DEIS was published on December 15, 2000, (65 FR 78485).

Dates, Times, and Locations for Public Meetings

1. Kahului, Maui, HI: January 3, 2001, 6 to 9 p.m., Maui Beach Hotel, Maui Room, 170 Kaahumanu Avenue, Kahului, Maui, HI 96732.

2. Lihue, Kauai, HI: January 4, 2001, 6 to 9 p.m., Wilcox Elementary School, 4319 Hardy St., Lihue, HI 96766.

3. Fagatogo, AS: January 6, 2001, 9 a.m. to noon, Department of Marine and Wildlife Resources (DMWR) conference room (behind market), Faratogo, AS. Phone contact c/o DMWR (684-633-4456).

4. Waianae, Oahu, HI: January 10, 2001, 6 to 9 p.m., Waianae Public Library, 85-625 Farrington Highway, Waianae, HI, 96792.

5. Haleiwa, Oahu, HI: January 11, 2001, 6 to 9 p.m., Haleiwa Alii Beach Park, Haleiwa, HI 96712.

6. Honolulu, Oahu, HI: January 12, 2001, 6 to 9 p.m., Ala Moana Hotel, Carnation Room, 410 Atkinson Boulevard, Honolulu, HI 96814.

7. Agana (Hagatna), Guam: January 16, 2001, 6 to 9 p.m., Guam Fishermen’s Cooperative Association, Hagatna Boat Basin, Agana (Hagatna), Guam.

8. Susupe Village, Saipan, CNMI: January 17, 2001, 6 to 9 p.m., Saipan Diamond Hotel, Hibiscus Room. No street address, Susupe Village, P.O. Box 66, CNMI.

9. Kaunakakai, Molokai, HI: January 22, 2001, 6 to 9 p.m., Mitchell Pauole Center, 90 Ainoa St., Kaunakakai, HI 96748.

10. Kona, Hawaii, HI: January 23, 2001, 6 to 9 p.m., King Kamehameha Hotel, 75-5660 Palani Road, Kona, HI 96740.

11. Hilo, Hawaii, HI: January 24, 2001, 6 to 9 p.m. Cooperative Extension Services, College of Agriculture, Conference Room B, 875 Komohana Street, Hilo, HI 96720.

12. Lanai, HI: January 26, 2001, 6 to 9 p.m., Lanai Airport Conference Room, Lanai, HI 96763.

Special Accommodations

Requests for sign language interpretation or other auxiliary aids should be directed to Marilyn Luipold (see ADDRESSES), 808-973-2937 (voice) or 808-973-2941 (facsimile), at least 5 days prior to meeting date.

Authority: 16 U.S.C. 1801 et seq.

Dated: December 19, 2000.
Bruce C. Morehead,
Acting Director, Office of Sustainable Fisheries, National Marine Fisheries Service.

[FR Doc. 00-32727 Filed 12-21-00; 8:45 am]

BILLING CODE 3510-22-S